DEPARTMENT OF LABOR

Employment and Training Administration

[TA-W-74,057]

Specialty Minerals, Inc., Franklin, VA; Notice of Negative Determination Regarding Application for Reconsideration

By applications dated July 9, 2010 and July 16, 2010 (filed by a company official and a worker, respectively), administrative reconsideration of the negative determination regarding workers' eligibility to apply for Trade Adjustment Assistance (TAA) applicable to workers and former workers of the subject firm was requested. The determination was issued on June 18, 2010. The Department's Notice of determination was published in the Federal Register on July 1, 2010 (75 FR 38142). The workers produced precipitated calcium carbonate used in the production of paper.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at Specialty Chemicals, Inc., Franklin, Virginia, was based on the finding that there was no shift/acquisition of production of precipitated calcium carbonate from the subject firm to a foreign country; nor was there any increase in imports of articles like or directly competitive with precipitated calcium carbonate produced at the subject facility; nor was the component part produced by the subject firm (precipitated calcium carbonate) directly incorporated into a firm's production of an article that was the basis of a primary TAA certification.

The company official's request for reconsideration stated that the workers of the subject firm should be eligible for TAA because “our customer, International Paper (IP) Franklin, Virginia is certified as a Primary Producer (see TA-W-70,243). The date of the certification is still within the relevant period for the separations for which benefits are sought.” The company official asserts that workers of the subject firm are eligible to apply for TAA as adversely affected secondary workers.

The initial investigation revealed that there are two International Paper Company facilities in Franklin, Virginia, that employed workers who are eligible to apply for TAA. Workers at International Paper Company (Lumber Plant) Franklin, Virginia were certified as adversely affected primary workers (TA-W-70,243) and workers at International Paper Company, Franklin Pulp and Paper Mill, Franklin, Virginia were certified as adversely affected secondary workers (TA-W-72,764).

The Department believes that the company official misidentified the petition number of International Paper Company, Franklin Pulp and Paper Mill, Franklin, Virginia because, during the initial investigation, the company official confirmed that precipitated calcium carbonate was incorporated into the paper produced by International Paper Company, Franklin Pulp and Paper Mill, Franklin, Virginia and International Paper Company confirmed that the subject firm supplied precipitated calcium carbonate to International Paper Company, Franklin Pulp and Paper Mill, Franklin, Virginia.

The worker's request for reconsideration stated that the subject firm is a “supplier/downstream producer” to “International Paper” and “closed down as a direct result of what happened at the Franklin paper mill.” The Department determines that International Paper Company, Franklin Pulp and Paper Mill, Franklin, Virginia is the “Franklin paper mill.”

Section 222(c) of the Trade Act of 1974, as amended, states that adversely affected secondary workers must be employed by a firm that is a supplier to a firm that employed a worker group who are adversely affected primary workers. Therefore, the supply of precipitated calcium carbonate to International Paper Company, Franklin Pulp and Paper Mill, Franklin, Virginia cannot be a basis for certification for workers of the subject firm.

The petitioners did not supply facts not previously considered nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 19th day of August, 2010.
Del Min Amy Chen,
Certifying Officer, Office of Trade Adjustment Assistance.

[FR Doc. 2010-21392 Filed 8-27-10; 8:45 am]

BILLING CODE 4510-FN-P